DEPARTMENT OF HOMELAND SECURITY

Coast Guard

33 CFR Parts 117 and 165

[USCG-2005-21072]

Quarterly Listings; Drawbridge Operation Regulations, Safety Zones and Security Zones

AGENCY: Coast Guard, DHS.

ACTION: Notice of temporary rules issued.

SUMMARY: This document provides required notice of substantive rules issued by the Coast Guard and temporarily effective between January 1, 2005 and March 31, 2005, that were not published in the Federal Register. This quarterly notice lists temporary drawbridge operation regulations, safety zones and security zones, all of limited duration and for which timely publication in the Federal Register was not possible.

DATES: This document lists temporary Coast Guard rules that became effective and were terminated between January 1, 2005, and March 31, 2005.

ADDRESSES: The Department of Transportation Docket Management Facility maintains the public docket for this notice. Documents indicated in this notice will be available for inspection or copying at the Docket Management Facility, U.S. Department of Transportation, Room PL-401, 400 Seventh Street SW., Washington, DC 20593-0001 between 9 a.m. and 5 p.m., Monday through Friday, except Federal Holidays. You may electronically access the public docket for this notice on the Internet at http://dms.dot.gov.

FOR FURTHER INFORMATION CONTACT: For questions on this notice contact LT Jeff Bray, Office of Regulations and Administrative Law, telephone (202) 267-2830. For questions on viewing, or on submitting material to the docket, contact Renee Z. Wright, Acting Program Manager, Docket Operations, telephone (202) 493-0402.

SUPPLEMENTARY INFORMATION: Coast Guard District Commanders and Captains of the Port (COTP) must be immediately responsive to the safety and security needs within their jurisdiction; therefore, District Commanders and COTPs have been delegated the authority to issue certain regulations. Safety zones may be established for safety or environmental purposes. A safety zone may be stationary and described by fixed limits or it may be described as a zone around a vessel in motion. Security zones limit access to prevent injury or damage to vessels, ports, or waterfront facilities and may also describe a zone around a vessel in motion. Drawbridge operation regulations authorize changes to drawbridge schedules to accommodate bridge repairs, seasonal vessel traffic, and local public events. Timely publication of these rules in the Federal Register is often precluded when a rule responds to an emergency, or when an event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these drawbridge operation regulations, security zones or safety zones by Coast Guard officials on-scene prior to any enforcement action. However, the Coast Guard, by law, must publish in the Federal Register notice of substantive rules adopted. To meet this obligation without imposing undue expense on the public, the Coast Guard periodically publishes a list of these temporary drawbridge operation regulations, security zones and safety zones. Permanent rules are not included in this list because they are published in their entirety in the Federal Register. Temporary rules are also published in their entirety if sufficient time is available to do so before they are placed in effect or terminated. The safety zones, drawbridge operation regulations and security zones listed in this notice have been exempted from review under Executive Order 12866, Regulatory Planning and Review, because of their emergency nature, or limited scope and temporary effectiveness.

The following rules were placed in effect temporarily during the period from January 1, 2005, through March 31, 2005, unless otherwise indicated.

Dated: May 10, 2005.
David L. Nichols,
Acting Chief, Office of Regulations and Administrative Law.

Docket No. | Location | Type | Effective date
CGD05-05-001 | Baltimore Harbor, MD | Safety Zone | 1/19/2005
CGD05-05-002 | Chesapeake Bay, Mathews, VA | Safety Zone | 1/17/2005
CGD05-05-003 | Potomac River, Washington, DC | Safety Zone | 1/12/2005
CGD05-05-012 | New Jersey Intracoastal Waterway | Drawbridges | 3/20/2005
CGD09-05-002 | Detroit, MI | Security Zone | 2/8/2005
CGD09-05-003 | St. Lawrence River, NY | Safety Zone | 3/14/2005
CGD13-05-005 | Cape Disappointment, WA | Safety Zone | 3/25/2005
COTP Corpus Christi 05-001 | Corpus Christi, TX | Safety Zone | 1/5/2005
COTP Houston 04-002 | Galveston Bay, TX | Safety Zone | 12/13/2004
COTP Houston 04-003 | Galveston Bay, TX | Safety Zone | 12/20/2004
COTP Huntington 05-001 | Reedsville, OH | Safety Zone | 1/13/2005
COTP Jacksonville 05-003 | Port Canaveral, FL | Safety Zone | 1/12/2005
COTP Jacksonville 05-004 | St. Johns River, FL | Safety Zone | 2/6/2005
COTP Jacksonville 05-030 | Jacksonville, FL | Safety Zone | 3/8/2005
COTP LA/LB 05-002 | Los Angeles, CA | Safety Zone | 1/30/2005
COTP Louisville 05-001 | Uniontown, KY | Safety Zone | 1/24/2005
COTP Louisville 05-002 | Ghent, KY | Safety Zone | 1/11/2005
COTP Louisville 05-003 | Ghent, KY | Safety Zone | 1/13/2005
COTP Louisville 05-004 | Spottsville, KY | Safety Zone | 1/13/2005
COTP Louisville 05-006 | Louisville, KY | Safety Zone | 3/10/2005
COTP Memphis 05-005 | Henrico, AR | Safety Zone | 2/5/2005
COTP Memphis 05-007 | Little Rock, AR | Safety Zone | 2/22/2005
COTP Miami 05-013 | Miami, FL | Safety Zone | 3/12/2005
COTP Miami 05-014 | Palm Beach, FL | Safety Zone | 3/15/2005
COTP Mobile 04-035 | Bayou La Batre, LA | Safety Zone | 9/21/2004
COTP Mobile 04-036 | Orange Beach, FL | Safety Zone | 9/21/2004
COTP Mobile 04-037 | Orange Beach, AL | Safety Zone | 9/21/2004
COTP Mobile 04-038 | Santa Rosa Island, FL | Safety Zone | 9/21/2004
COTP Mobile 04-039 | Apalachicola, FL | Safety Zone | 9/21/2004
COTP Mobile 04-040 | Apalachicola to St Marks, FL | Safety Zone | 9/14/2004
COTP Mobile 04-043 | Mississippi and Alabama Gulf Coast | Safety Zone | 9/21/2004
COTP Mobile 04-044 | Alabama and Florida Gulf Coast | Safety Zone | 9/21/2004
COTP Mobile 04-045 | Florida Gulf Coast | Safety Zone | 9/21/2004
COTP Mobile 04-053 | Pascagoula, MS | Safety Zone | 12/13/2004
COTP Mobile 04-059 | Santa Rosa Island, FL | Safety Zone | 1/15/2005
COTP Mobile 04-060 | Pensacola, FL | Safety Zone | 12/17/2004
COTP Mobile 04-062 | Pascagoula, MS | Safety Zone | 12/17/2004
COTP Mobile 04-063 | Destin, FL | Safety Zone | 12/13/2004
COTP Mobile 05-003 | Pensacola, FL | Security Zone | 3/18/2005
COTP Mobile 05-004 | Pensacola, FL | Security Zone | 3/18/2005
COTP Morgan City 04-015 | Berwick, LA | Security Zone | 11/18/2004
COTP Morgan City 05-001 | Montegut, LA | Safety Zone | 1/28/2005
COTP Morgan City 05-013 | Bayou Perot, LA | Safety Zone | 2/17/2005
COTP New Orleans 04-039 | Darrow, LA | Safety Zone | 11/2/2004
COTP New Orleans 04-042 | Red River, LA | Safety Zone | 1/15/2005
COTP New Orleans 04-043 | Crown Point, LA | Safety Zone | 12/16/2004
COTP New Orleans 04-044 | Algiers Point, New Orleans, LA | Safety Zone | 12/18/2004
COTP New Orleans 04-045 | Lake Pontchartrain, Kenner, LA | Safety Zone | 1/1/2005
COTP New Orleans 04-046 | Lake Pontchartrain, Bonnabel, LA | Safety Zone | 1/1/2005
COTP New Orleans 04-047 | New Orleans, LA | Safety Zone | 1/1/2005
COTP New Orleans 05-001 | Crown Point, LA | Safety Zone | 1/1/2005
COTP New Orleans 05-002 | New Orleans, GA | Safety Zone | 1/18/2005
COTP New Orleans 05-003 | New Orleans, LA | Safety Zone | 1/17/2005
COTP New Orleans 05-004 | Baton Rouge, LA | Safety Zone | 1/21/2005
COTP New Orleans 05-005 | New Orleans, LA | Safety Zone | 1/28/2005
COTP New Orleans 05-006 | Vicksburg, MS | Safety Zone | 2/2/2005
COTP New Orleans 05-007 | New Orleans, LA | Safety Zone | 2/7/2005
COTP New Orleans 05-008 | LaPalco Bridge, New Orleans LA | Safety Zone | 1/1/2005
COTP New Orleans 05-009 | Vicksburg, MS | Safety Zone | 2/9/2005
COTP New Orleans 05-010 | Pitottown, LA | Safety Zone | 2/5/2005
COTP New Orleans 05-011 | Laplace, LA | Safety Zone | 2/8/2005
COTP New Orleans 05-012 | Laplace, LA | Safety Zone | 2/9/2005
COTP New Orleans 05-013 | Southwest Pass, LA | Safety Zone | 2/10/2005
COTP New Orleans 05-014 | Geismar, LA | Safety Zone | 2/10/2005
COTP New Orleans 05-015 | Convent, LA | Safety Zone | 2/10/2005
COTP New Orleans 05-016 | Laplace Anchorage, LA | Safety Zone | 2/16/2005
COTP New Orleans 05-017 | Lower Mississippi River, LA | Safety Zone | 2/23/2005
COTP Pittsburgh 04-028 | Pittsburgh, PA | Safety Zone | 1/1/2005
COTP Pittsburgh 05-005 | Pittsburgh, PA | Safety Zone | 1/23/2005
COTP Pittsburgh 05-006 | New Kensington, PA | Safety Zone | 1/31/2005
COTP Port Arthur 05-001 | Orange, TX | Safety Zone | 1/7/2005
COTP San Francisco Bay 05-001 | Napa River, CA | Safety Zone | 1/17/2005
COTP San Francisco Bay 05-002 | San Francisco Bay, CA | Safety Zone | 3/1/2005
COTP San Juan 04-138 | Saint Croix, Virginia Islands | Security Zone | 1/29/2005
COTP Savannah 04-065 | Savannah, GA | Safety Zone | 9/1/2004
COTP Savannah 05-011 | Savannah, GA | Safety Zones | 2/3/2005
COTP Savannah 05-022 | Savannah, GA | Security Zones | 3/2/2005
COTP St. Louis 04-047 | South Sioux City, NE | Safety Zones | 1/1/2005
COTP St. Louis 05-002 | Alton, IL | Safety Zones | 3/31/2005

[FR Doc. 05-9917 Filed 5-17-05; 8:45 am]

BILLING CODE 4910-15-M